DEPARTMENT OF ENERGY

Federal Energy Regulatory Commission

[Project Nos., 7920-004, 7921-006, and 7922-004]

Alden Hydro, LLC, Tridam Energy LLC; Notice of Transfer of Exemption

By letter filed September 1, 2015, Brendan Finnegan, Owner, Tridam Energy LLC, informed the Commission that the exemption from licensing for the Waterloom Falls Project No. 7920, originally issued March 11, 1985,¹ the Otis Falls Project No. 7921, originally issued March 11, 1985,² and the Chamberlain Falls Project No. 7922, originally issued March 11, 1985,³ have been transferred to Tridam Energy LLC, effective June 2014. The projects are located on the Souhegan River in Hillsboro County, New Hampshire. The transfer of an exemption does not require Commission approval.

¹ Order Granting Exemption From Licensing of a Small Hydroelectric Project of 5 Megawatts or Less. Alden T. Greenwood, 30 FERC ¶ 62,256 (1985).

² Order Granting Exemption From Licensing of a Small Hydroelectric Project of 5 Megawatts or Less. Alden T. Green, 30 FERC ¶ 62,267 (1985).

³ Order Granting Exemption From Licensing of a Small Hydroelectric Project of 5 Megawatts or Less. Alden T. Greenwood, 30 FERC ¶ 62,257 (1985).

Tridam Energy, LLC is now the exemptee of the Waterloom Falls Project No. 7920, the Otis Falls Project No. 7921, and the Chamberlain Falls Project No. 7922. All correspondence should be forwarded to: Mr. Brendan Finnegan, Owner, Tridam Energy LLC, 251 Heath Street, Apt #105, Jamaica Plain, MA 02130, Phone: 781-223-6637, Email: bfinnegan14@gmail.com.

Dated: February 22, 2017.
Kimberly D. Bose,
Secretary.

[FR Doc. 2017-03841 Filed 2-27-17; 8:45 am]

BILLING CODE 6717-01-P